DEPARTMENT OF HEALTH AND HUMAN SERVICES

Agency Information Collection Request; 30-Day Public Comment Request, Grants.Gov; 30-day Notice

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-6974.

Proposed Project: SF-424 Short Organizational—Revision—OMB No. 4040-0003—Grants.gov.

Abstract: This is a request for a revision of a previously approved collection. The SF-424 Short organizational form is used by the 26 Federal grant-making agencies as a simplified alternative to the SF-424 standard form. Agencies may use the SF-424 Short Organizational form for grant programs not required to collect all the data that is required on the SF-424 standard form.

The form is being revised with changes to the data field that collects the Social Security Number (SSN). The SSN field is an optional field. The current collection pre-fills the first five digits with “xxx-xx” and only collects the last four digits of the SSN. At OMB's request, we reviewed the usefulness of collection of a portion of the SSN, by polling the Agencies that used the SF-424 Short Organizational form; however, it was determined that the partial SSN is not useful for processing the SF-424 Short Organizational form by the Agencies. Therefore, no portion of the SSN will be collected as part of the electronic grant application process. Frequency of data collection varies by Federal agency.

Estimated Annualized Burden Table
Agency | Number of respondents | Number of responses per respondent | Average burden per response (in hours) | Total burden hours
NEA | 4130 | 1 | 20/60 | 1377
NEH | 2328 | 1 | 30/60 | 1,164
DOI | 148 | 2.81 | 18/60 | 125
HHS | 3903 | 1 | 30/60 | 1952
DOS | 800 | 1 | 20/60 | 267
Total |  |  |  | 4,885

Seleda Perryman,
Office of the Secretary, Paperwork Reduction Act Reports Clearance Officer.

[FR Doc. E8-22975 Filed 9-29-08; 8:45 am]

BILLING CODE 4151-AE-P